DEPARTMENT OF COMMERCE

International Trade Administration

[C-357-813]

Honey From Argentina: Rescission of Countervailing Duty Administrative Review

AGENCY: Import Administration, International Trade Administration, Department of Commerce.

SUMMARY: The Department of Commerce (the Department) is rescinding the administrative review of the countervailing duty order on honey from Argentina for the period January 1, 2010, through December 31, 2010 based on a timely withdrawal of the sole request for review.

DATES: Effective Date: March 24, 2011.

FOR FURTHER INFORMATION CONTACT: Justin M. Neuman, AD/CVD Operations, Office 6, Import Administration, International Trade Administration, U.S. Department of Commerce, 14th Street and Constitution Avenue, NW., Washington, DC 20230; telephone: (202) 482-0486.

SUPPLEMENTARY INFORMATION:

Background

On December 10, 2001, the Department published in the Federal Register the countervailing duty order on honey from Argentina. See Notice of Countervailing Duty Order: Honey From Argentina, 66 FR 63673 (December 10, 2001). On December 1, 2010, the Department published a notice announcing the opportunity to request an administrative review of the countervailing duty order on honey from Argentina for the period January 1, 2010, through December 31, 2010. See Antidumping or Countervailing Duty Order, Finding, or Suspended Investigation; Opportunity To Request Administrative Review, 75 FR 74682 (December 1, 2010). On January 3, 2011, in accordance with 19 CFR 351.213(b), the Department received a timely request from the American Honey Producers Association and the Sioux Honey Association (collectively, Petitioners), to conduct an administrative review. In accordance with section 751(a)(1) of the Tariff Act of 1930 (the Act) and 19 CFR 351.221(c)(1)(i), on January 28, 2011, the Department published a notice initiating an administrative review of the countervailing duty order. See Initiation of Antidumping and Countervailing Duty Administrative Reviews, 76 FR 5137 (January 28, 2011). On February 24, 2011, Petitioners withdrew their request for review.

Rescission of Administrative Review

Pursuant to 19 CFR 351.213(d)(1), the Secretary will rescind an administrative review, in whole or in part, if the party that requested the review withdraws the request within 90 days of the date of publication of the notice of initiation of the requested review. Petitioners' February 24, 2011, withdrawal was filed within the 90-day period, and no other party requested a review. Therefore, pursuant to 19 CFR 351.213(d)(1), the Department is rescinding this administrative review.

Assessment

The Department will instruct U.S. Customs and Border Protection (CBP) to assess countervailing duties at the cash deposit rate in effect on the date of entry, for all entries of honey from Argentina during the period January 1, 2010, through December 31, 2010. The Department intends to issue appropriate assessment instructions to CBP 15 days after publication of this notice of rescission of administrative review.

Notification Regarding Administrative Protective Order

This notice serves as a final reminder to parties subject to the administrative protective order (APO) of their responsibility concerning the disposition of proprietary information disclosed under APO in accordance with 19 CFR 351.305(a)(3). Timely written notification of the return/destruction of APO materials or conversion to judicial protective order is hereby requested. Failure to comply with the regulations and terms of an APO is a sanctionable violation.

This notice is issued and published in accordance with sections 751(a)(1) and 777(i)(1) of the Act and 19 CFR 351.213(d)(4).

Dated: March 18, 2011.
Christian Marsh,
Deputy Assistant Secretary for Antidumping and Countervailing Duty Operations.

[FR Doc. 2011-6993 Filed 3-23-11; 8:45 am]

BILLING CODE 3510-DS-P